DEPARTMENT OF EDUCATION

National Institute on Disability and Rehabilitation Research (NIDRR)—Disability and Rehabilitation Research Projects and Centers Program—Disability Rehabilitation Research Project (DRRP)—Center on Knowledge Translation (KT) for Employment Research (Center)

Catalog of Federal Domestic Assistance (CFDA) Number: 84.133A-5.

AGENCY: Office of Special Education and Rehabilitative Services, Department of Education.

ACTION: Notice of final priority.

SUMMARY: The Assistant Secretary for Special Education and Rehabilitative Services announces a priority for the Disability and Rehabilitation Research Projects and Centers Program administered by NIDRR. Specifically, this notice announces a priority for a DRRP to serve as the Center on Knowledge Translation (KT) for Employment Research (Center). The Assistant Secretary may use this priority for a competition in fiscal year (FY) 2010 and later years. We take this action to focus research attention on areas of national need. We intend this priority to improve rehabilitation services and outcomes for individuals with disabilities.

DATES: Effective Date: This priority is effective August 11, 2010.

FOR FURTHER INFORMATION CONTACT: Lynn Medley, U.S. Department of Education, 400 Maryland Avenue, SW., Room 5140, Potomac Center Plaza (PCP), Washington, DC 20202-2700. Telephone: (202) 245-7338 or by e-mail: Lynn.Medley@ed.gov.

If you use a telecommunications device for the deaf (TDD), call the Federal Relay Service (FRS), toll free, at 1-800-877-8339.

SUPPLEMENTARY INFORMATION:

This notice of final priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Purpose of Program:

The purpose of the DRRP program is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: Research, training, demonstration, development, dissemination, utilization, and technical assistance. An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

Program Authority: 29 U.S.C. 762(g) and 764(a).

Applicable Program Regulations: 34 CFR part 350.

We published a notice of proposed priority (NPP) for NIDRR's Disability and Rehabilitation Research Projects and Centers Program in the Federal Register on May 17, 2010 (75 FR 27544). The NPP included a background statement that described our rationale for the priority proposed in that notice.

There is one significant difference between the NPP and this notice of final priority (NFP) as discussed in the following section.

Public Comment:

In response to our invitation in the NPP, one party submitted comments on the proposed priority. An analysis of the comments and of the changes in the priority since publication of the NPP follows.

Generally, we do not address technical and other minor changes or suggested changes the law does not authorize us to make under the applicable statutory authority. In addition, we do not address general comments that raised concerns not directly related to the proposed priority.

Analysis of Comments and Changes:

Comment: One commenter noted that the priority requires the Center to actively engage “vocational rehabilitation (VR) practitioners” in its work. This commenter asked whether the term “VR practitioners” refers only to State VR agencies and their staff, or if the term could also include staff of rehabilitation service providers such as Community Rehabilitation Programs.

Discussion: As used in the priority, the term “VR practitioners” refers specifically to State VR agencies and their staff. However, applicants are free to expand the use of this term to include other rehabilitation professionals, such as staff from Community Rehabilitation Programs.

Changes: None.

Comment: In reference to paragraph (c) of the priority, one commenter noted that it would be beneficial for the Center to coordinate with, and provide training and technical assistance to, NIDRR's Disability and Business Technical Assistance Center (DBTAC) grantees, as well as relevant RSA grantees such as the Technical Assistance and Continuing Education (TACE) Centers.

Discussion: NIDRR agrees that the Center should coordinate with the DBTAC grantees and TACE Centers and that these grantees would benefit from the work of the Center. Therefore, NIDRR is changing the priority accordingly.

Changes: NIDRR has revised paragraphs (c)(1) and (c)(2) of the priority to require the Center to coordinate its activities with RSA-funded grantees, as well as NIDRR-funded grantees. NIDRR has also revised paragraph (c)(1) of the priority to include the DBTACs and the TACE Centers as examples of relevant RSA- and NIDRR-funded grantees that could benefit from the training and technical assistance provided by the Center.

Final Priority:

The Assistant Secretary for Special Education and Rehabilitative Services announces a priority for a Disability and Rehabilitation Research Project (DRRP) to serve as the Center on Knowledge Translation (KT) for Employment Research (Center). The purpose of the Center is to conduct systematic reviews of research findings to identify evidence-based practices and other information that can be used to improve employment outcomes for individuals with disabilities, to identify research gaps, and to investigate and promote effective strategies to increase the appropriate use of these findings. The Center must conduct rigorous and relevant research, development, technical assistance, dissemination, and utilization activities.

These activities must contribute to: (1) Improved knowledge of the state of research relevant to improving employment outcomes for individuals with disabilities; (2) improved knowledge of the findings from high-quality research; (3) identification of practices that are promising or proven to have been effective for specific purposes or target audiences; and (4) improved knowledge on the part of consumers and others not only of the research findings but also of the strengths of the findings and the appropriate use of the research information. These outcomes will lead to the increased use of research-based knowledge related to improving employment outcomes for individuals with disabilities by the following user groups: Individuals with disabilities, employers, policy makers, and vocational rehabilitation (VR) practitioners. The Center must work in partnership with organizations representing these user groups. These user groups must be actively engaged in the planning, conduct, and evaluation of all project activities.

Under this priority, the Center must contribute to the following outcomes:

(a) Establishment of available employment-related knowledge that can be used to inform behavior, practices, or policies that improve employment outcomes of individuals with disabilities. The Center must contribute to this outcome by:

(1) Systematically reviewing existing research to identify findings that can be used by individuals with disabilities, employers, policy makers, and VR practitioners to improve the employment of individuals with disabilities. The Center must conduct systematic reviews of individual studies to assess their strengths and weaknesses; summarize findings; assess the appropriate uses of the findings; determine the relevance of the findings; and make the information publicly available. In so doing, the Center must take into account the types of research and stages of knowledge development (i.e., the type of research questions being addressed and the methods employed) in each area.

(2) Producing syntheses on topics, including promising and proven practices, for which the Center determines the research to be of sufficient quality and relevance pursuant to paragraph (a)(1) of this priority. The Center must use standards and methods that are appropriate for the type of research, the stage of knowledge in the identified areas, and its intended use to categorize, evaluate, and synthesize the research findings identified in paragraph (a)(1) of this priority.

(3) Suggesting priorities for a future research agenda based on the knowledge gaps discovered through the review of existing research findings in paragraph (a)(1) of this priority.

(b) Establishment of effective approaches and strategies to promote the appropriate use of research findings on improving the employment of individuals with disabilities, by individuals with disabilities, employers, policy makers, and VR practitioners.

The Center must contribute to this outcome by:

(1) Conducting research on factors impeding and contributing to the use of research findings on employment of individuals with disabilities by individuals with disabilities, employers, policy makers, and VR practitioners.

(2) Identifying, selecting, refining, and testing approaches and strategies that can be used to promote the appropriate use of research findings on employment of individuals with disabilities by individuals with disabilities, employers, policy makers, and VR practitioners. These approaches and strategies must be refined and tested within each of the user groups. The Center must use at least one of the areas of the synthesized knowledge from paragraph (a)(2) of this priority as a subject for further refinement and testing of KT approaches and strategies.

(c) Increased utilization of approaches and strategies determined to be effective under paragraph (b) of this priority to promote the use of research findings on employment of individuals with disabilities. The Center must contribute to this outcome by:

(1) Providing training and technical assistance to relevant RSA- and NIDRR-funded grantees in the employment area to facilitate the implementation and evaluation of these KT approaches and strategies. Relevant RSA-funded grantees include, but are not limited to, the Technical Assistance and Continuing Education (TACE) Centers. NIDRR-funded grantees in the employment area include a number of research grantees, as well as the Disability and Business Technical Assistance Center (DBTAC) grantees.

(2) Coordinating KT research and development activities with existing NIDRR- and RSA-funded KT and employment projects through consultation with NIDRR project officers.

(3) Using appropriate approaches and strategies established under paragraph (b) of this priority to disseminate the synthesized knowledge established under paragraph (a) of this priority to individuals with disabilities, employers, policy makers, and VR practitioners.

(4) Organizing and hosting a state-of-the-science conference by the end of the fourth project year.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Note: This notice does not solicit applications. In any year in which we choose to use this priority, we invite applications through a notice in the Federal Register.

Executive Order 12866: This notice has been reviewed in accordance with Executive Order 12866. Under the terms of the order, we have assessed the potential costs and benefits of this regulatory action.

The potential costs associated with this final regulatory action are those resulting from statutory requirements and those we have determined as necessary for administering this program effectively and efficiently.

In assessing the potential costs and benefits—both quantitative and qualitative—of this final regulatory action, we have determined that the benefits of the final priority justify the costs.

Discussion of costs and benefits:

The benefits of the Disability and Rehabilitation Research Projects and Centers Programs have been well established over the years in that similar projects have been completed successfully. This priority will generate new knowledge through research, development, dissemination, utilization, and technical assistance projects that will enhance the lives of individuals with disabilities by improving their employment outcomes.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll-free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: July 7, 2010.
Alexa Posny,
Assistant Secretary for Special Education and Rehabilitative Services.

[FR Doc. 2010-16937 Filed 7-9-10; 8:45 am]

BILLING CODE 4000-01-P